DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 21, 2002.

Interested persons are invited to submit written comments regarding the subject matter of the investigations to the Director, Division of Trade Adjustment Assistance, at the address shown below, not later than June 21, 2002.

The petitions filed in this case are available for inspection at the Office of the Director, Division of Trade Adjustment Assistance, Employment and Training Administration, U.S. Department of Labor, Room C-5311, 200 Constitution Avenue, NW., Washington, DC 20210.

Signed at Washington, DC, this 15th day of April, 2002.
Edward A. Tomchick,
Director, Division of Trade Adjustment Assistance.

Appendix
[Petitions instituted on 04/15/2002]
TA-W | Subject Firm (petitioners) | Location | Date of petition | Product(s)
41,285 | United States Enrichment (PACE) | Piketon, OH | 01/11/2002 | Enriched Uranium Product.
41,286 | Semitool, Inc. (Comp) | Kalispell, MT | 03/29/2002 | Chemical and Thermal Processing, Equip.
41,287 | GretagMacbeth LLC (Wrks) | New Windsor, NY | 03/25/2002 | Software Made in Italy.
41,288 | International Truck (UAW) | Springfield, OH .. | 03/26/2002 | Medium and Heavy-Duty Trucks.
41,289 | TRW, Inc. (Wkrs) | Cleveland, OH | 04/03/2002 | Engine Valves and Valve Train Components.
41,290 | GE Transportation Systems (Wkrs) | Grain Valley, MO | 03/12/2002 | Circuit Board—Support Services.
41,291 | Braden Manufacturing LLC (Comp) | Ft. Smith, AR | 03/25/2002 | Steel Fabricated Components.
41,292 | Aerocell Structures (Wkrs) | Hot Springs, AR | 03/24/2002 | Aircraft Mechanical Repair Service.
41,293 | Radiall, Inc (Wkrs) | Stratford, CT | 01/12/2002 | Cable—Coaxial, Microwave, Fiber Optic.
41,294 | Northwind Outdoor Co (Wrks) | Fergus Falls, MN | 12/18/2001 | Dog beds, Decoy bags, Collars.
41,295 | Multax Systems (Wrks) | Manhattan Beach, CA | 04/03/2002 | Machine Controlled Media.
41,296 | Mullican Lumber Co., LP (Wrks) | Appalachia, VA | 03/28/2002 | Green Hardwood Lumber.
41,297 | Rivoli Mills (Comp) | Chattanooga, TN | 03/08/2002 | Men's, Ladies', Children's Knit Shirts.
41,298 | Komar Manufacturing Co (Wrks) | Claysburg, PA | 03/08/2002 | Electrical and Small Appliance Cords.
41,299 | Smead Manufacturing (Wkrs) | McGregor, TX | 03/15/2000 | Legal Wallets (Machinery) Office Use.
41,300 | L and A Molding Corp (Comp) | Lewiston, ME | 03/20/2002 | Mold Plastic Heels and Shoe Soles.
41,301 | Schlumberger (Wrks) | San Carlos, CA | 03/22/2002 | Electric Components for PG & E.
41,302 | Motorola, Inc. (Wrks) | Arlington Hts, IL | 03/15/2002 | Cable Modems, Access Units, & Control Frames.
41,303 | McKechnie Tooling (Wrks) | Staples, MN | 04/04/2002 | Plastic Injection Molds.
41,304 | Alcatel (Wrks) | Claremont, NC | 03/06/2002 | Cable Manufacturing.
41,305 | Cummins Diesel ReCon (Comp) | Charleston, SC .. | 03/13/2002 | Gas and Diesel Re-manufacturing Engines.
41,306A | Riverside paper Corp. (AICW) | Appleton, WI | 03/18/2002 | Groundwood Construction Paper.
41,306 | Riverside Paper Corp. (AICP) | Appleton, WI | 03/18/2002 | Groundwood Construction Paper.
41,307 | Canton Drop Forge, Inc. (USWA) | Canton, OH | 03/08/2002 | Stainless and Alloy Steels.
41,308 | Simmons Foods, Inc (Wrks) | McAlester, OK | 03/08/2002 | Chickens—Frozen.
41,309A | Morgan Crucible Co, PLC (IUE) | Elizabethtown, KY | 03/13/2002 | Low Grade Magnets.
41,309 | Morgan Crucible Co, PLC (IUE) | Elizabethtown, KY | 03/13/2002 | Low Grade Magnets.
41,310 | Baldwin Graphic Systems (Wrks) | Shelton, CT | 03/15/2002 | Accessories for Printing Industry.
41,311 | Quickie Manufacturing (Comp) | El Paso, TX | 02/15/2002 | Manufacturing/Assembly of Cleaning Tools.
41,312 | Rohm and Haas Co., (Wrks) | Philadelphia, PA | 03/27/2002 | Exchange Resins.
41,313 | Goodrich Corp (Wrks) | Arkadelphia, AR | 03/19/2002 | Aircraft Parts.
41,314 | Schneider Mills, Inc (Comp) | Forest City, NC | 03/18/2002 | Apparel Cloth.
41,315 | Metal Processing Corp (Comp) | Maple Heights, OH | 03/07/2002 | Heat Processing and Steel Coil Roads.
41,316 | Quality Component, Inc. (Wrks) | Klamath Falls, OR | 03/13/2002 | Telecommunication/Electronic Connectors.
41,317 | Metso Minerals Industries (IAMAW) | Appleton, WI | 03/04/2002 | Stone Crushing Machinery.
41,318 | Specialty Minerals, Inc (Comp) | Oswego, NY | 03/05/2002 | Minerals.
41,319 | Astro Cosmos Metallurgica (UAW) | Wooster, OH | 03/06/2002 | Fabrication of Pressure Vessels.
41,320 | South Coast Lumber Co (Comp) | Brookings, OR | 03/13/2002 | Dimension Lumber.
41,321 | Penn Union Corp (Wrks) | Edinboro, PA | 03/10/2002 | Electrical Connectors.
41,322 | North American Refractori (Wrks) | Pittsburg, PA | 03/12/2002 | Ladle Slide Components.
41,323 | Hoffman Materials, Inc. (Comp) | Carlisle, PA | 03/12/2002 | Cuptal Quartz.
41,324 | Springford Industries (Wrks) | Tucson, AZ | 04/01/2002 | T-Shirts & Underwear.
41,325 | Blue Fox Tackle (Wrks) | Cambridge, MN | 03/19/2002 | Fishing Products.
41,326 | U.S. Electrical Motors (Comp) | Philadelphia, MS | 03/13/2002 | Electrical Motors.
41,327 | MeadWestvaco (PACE) | Rumford, ME | 03/22/2002 | Coated Paper and Pulp.
41,328 | New World Pasta (BCTGM) | Lebanon, PA | 03/22/2002 | Pasta Products.
41,329 | TLD Lantis Corp (Wrks) | Salinas, CA | 03/21/2002 | Aircraft Ground Support Equipment.
41,330 | Tinius Olsen Testing (UE) | Willow Grove, PA | 03/20/2002 | Universal Testing Machines.
41,331 | Ashland Speciality, Chemica (USWA) | Pittsburgh, PA | 03/24/2002 | Maleic Anhydride.
41,332 | A. Stucki Co. (USWA) | Pittsburgh, PA | 03/24/2002 | Freight Car Suspension Components.
41,333 | BOC Edwards (Comp) | Philadelphia, PA | 03/08/2002 | Vacuum Pumps.
41,334 | Metaldyne Corp. (Comp) | Troy, OH | 04/01/2002 | Metal Products.
41,335 | Northern Indiana Public (USWA) | Merrillville, IN | 01/29/2002 | Imported Steel.
41,336 | C and W Fabricators, Inc. (Wrks) | Gardner, MA | 04/04/2002 | Intake Systems.
41,337 | Quantum Corp. (Comp) | Colorado Springs, CO | 03/20/2002 | Desktops, Hard Drives, NAS Appliances etc..
41,338 | Eagle Electric—Cooper (Wrks) | L. Island City, NY | 03/20/2002 | Wired Devices.
41,339 | Johnson Garment Corp (Comp) | Marshfield, WI | 03/28/2002 | Men's Insulated Outerwear.
41,340 | Westwood Lighting (Comp) | El Paso, TX | 04/02/2002 | Lamps—Distribution—Warehouse.
41,341 | Clarinda Co (The) (Wrks) | Atlantic, IA | 03/26/2002 | Textbook Compositor.
41,342 | American Furniture Co (Comp) | Chilhowie, VA | 03/20/2002 | Furniture for Lodging Industries.
41,343 | Camfil Farr (Comp) | Jonesboro, AR | 03/28/2002 | Air Filteration Systems.
41,344 | Vision Ease Lens, (Comp) | Azusa, CA | 03/22/2002 | Polycarbonate Opthaimic Lenses.
41,345 | Fuchs Systems, Inc. (Comp) | Salisbury, NC | 03/19/2002 | Electric Arc Furnaces.
41,346 | Electronic Data Systems (Wrks) | Camp Hill, PA | 03/18/2001 | Software Design.
41,347 | Imation Color Technologie (Wrks) | Oakdale, MN | 03/18/2002 | Color Technologies.

[FR Doc. 02-14551 Filed 6-10-02; 8:45 am]

BILLING CODE 4510-30-M